DEPARTMENT OF TRANSPORTATION

Federal Highway Administration

[Docket No. FHWA-2011-0128]

Agency Information Collection Activities: Notice of Request for Renewal of a Previously Approved Information Collection

AGENCY: Federal Highway Administration (FHWA), DOT.

ACTION: Notice of Request for Renewal of a Previously Approved Information Collection.

SUMMARY: The FHWA invites public comments about our intention to request the Office of Management and Budget's (OMB) approval the renewal of a previously approved information collection that is summarized below under SUPPLEMENTARY INFORMATION. We published a Federal Register Notice with a 60-day public comment period on this information collection on October 11, 2010. We are required to publish this notice in the Federal Register by the Paperwork Reduction Act of 1995.

DATES: Please submit comments by January 12, 2012.

ADDRESSES: You may send comments within 30 days to the Office of Information and Regulatory Affairs, Office of Management and Budget, 725 17th Street NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2011-0128.

FOR FURTHER INFORMATION CONTACT: Mary Huie, (202) 366-3039, Department of Transportation, Federal Highway Administration, Office of Infrastructure, 1200 New Jersey Ave. SE., E76-106, Washington, DC 20590. Office hours are from 8 a.m. to 4:30 p.m., Monday through Friday, except Federal holidays.

SUPPLEMENTARY INFORMATION: Title: Highways for LIFE Program.

Background: Section 1502 of SAFETEA-LU established the “Highways for LIFE” Program. The purpose of the Highways for LIFE program is to advance longer-lasting highways using innovative technologies and practices to accomplish the fast construction of efficient and safe highways and bridges. “Highways for LIFE” is focused on accelerating the rate of adoption of proven technologies. The program provides funding to States to accelerate technology adoption to construct, reconstruct, or rehabilitate Federal-aid highway projects that incorporate innovative technologies that will improve safety, reduce congestion due to construction, and improve quality. Those States interested in participating in the “Highways for LIFE” program would submit an application for project funding. The information to be provided on the application includes a description of the project, the innovative technologies to be used and a description of how these technologies will improve safety, reduce construction congestion, and improve quality. The collected information will be used by FHWA to evaluate and select projects for “Highways for LIFE” funding.

Respondents: The fifty State Departments of Transportation, the District of Columbia, and Puerto Rico.

Frequency: Annually.

Estimated Number of Respondents: 1,460 for file maintenance and 52 State highway agencies for statistical reports.

Estimated Average Burden per Response: 8 hours per respondent per application.

Total Annual Burden: It is expected that the respondents will complete approximately 30 applications for an estimated 240 total annual burden hours.

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Dated: December 6, 2011.
Cynthia Thornton,
Acting Chief, Management Programs and Analysis Division.

[FR Doc. 2011-31955 Filed 12-12-11; 8:45 am]

BILLING CODE 4910-22-P